DEPARTMENT OF COMMERCE

National Telecommunications and Information Administration

[Docket Number: 981203295-0112-04]

RIN 0660-ZA06

Technology Opportunities Program (TOP)

AGENCY: National Telecommunications and Information Administration, Commerce.

ACTION: Notice of applications received.

SUMMARY: On January 5, 2000, in the Federal Register (65 FR 681-688), the National Telecommunications and Information Administration (NTIA) announced the availability of funds for the Technology Opportunities Program (TOP) to promote the widespread use of advanced telecommunications and information technologies in the public and non-profit sectors. By providing matching grants for information infrastructure projects, this program will help develop a nationwide, interactive, multimedia information infrastructure that is accessible to all citizens, in rural as well as urban areas. This Notice announces the applications that were received in response to the January 5, 2000, solicitation.

In all, 662 applications were received from forty-eight states, the District of Columbia, the Commonwealth of Puerto Rico, and the U.S. Virgin Islands. The total amount requested by the applications is $269.6 million.

Notice is hereby given that the program received applications from the following organizations. Identification of any application only indicates its receipt. It does not indicate that it has been accepted for review, that it has been determined to be eligible for funding, or that an application will receive an award.

Alabama:
City of Troy | Troy | 000136
Crisis Services of North Alabama | Huntsville | 000446
Dothan/Houstan County Communications District | Dothan | 000072
George C. Wallace State Community College | Hanceville | 000449
Madison County Commissions | Huntsville | 000634
Reverend Peter James Kirksey and Florence Lee Kirksey Foundation | Boligee | 000265
Scottsboro/Jackson County | Scottsboro | 000020
Alaska:
Alaska Information Radio Reading & Education Service | Anchorage | 000601
Alaska Justice Statistical Analysis Unit | Anchorage | 000536
Borough of Matanuska-Susitna | Palmer | 000155
Sitka Tribe of Alaska | Sitka | 000048
TDX Foundation | Anchorage | 000051
University of Alaska Fairbanks | Fairbanks | 000129
University of Alaska Southeast | Ketchikan | 000199
Arizona:
Arizona Department of Environmental Quality | Phoenix | 000164
Arizona State University | Tempe | 000464
City of Flagstaff | Flagstaff | 000026
City of Tucson | Tucson | 000035
Coconino County Information Systems | Flagstaff | 000031
Community Council, Inc dba Community Forum | Phoenix | 000203
Lowell Observatory | Flagstaff | 000122
Navajo Family Health Resource Network | Window Rock | 000382
Northern Arizona Academy | Show Low | 000380
Pima County | Tucson | 000276
Portable Practical Education Programs, Inc | Tucson | 000168
Volunteer Interfaith Caregiver Program | Sierra Vista | 000098
Arkansas:
70 West Fire Protection Association | Hot Springs | 000126
City of Murfreesboro | Murfreesboro | 000310
Communities in Schools of Arkansas, Inc | Little Rock | 000213
University of Central Arkansas | Conway | 000232
California:
Association of Bay Area Governments | Oakland | 000054
Black Technologies Advancement | San Jose | 000304
Black Women for Wellness | Los Angeles | 000416
Board of Trustee of the Leland Stanford Junior University | Stanford | 000427
California School of Professional Psychology Research & Service Foundation | San Diego | 000208
California Science Center Foundation | Los Angeles | 000325
California State University Fresno Foundation | Fresno | 000431
California State University Fresno Foundation | Fresno | 000641
Center for Autobiographic Studies | Lake View Terrace | 000405
Center for Medical Studies | Irvine | 000540
Charles R. Drew University of Medicine | Los Angeles | 000252
CHARO Community Development Corporation | Los Angeles | 000466
City of Bakersfield | Bakersfield | 000608
City of El Monte | El Monte | 000049
City of Fremont | Fremont | 000330
City Of Mirada | La Mirada | 000644
City of Santa Clarita | Santa Clarita | 000147
City of Turlock | Turlock | 000165
City of West Hollywood | West Hollywood | 000496
Colfax Elementary School District | Colfax | 000130
Community College Foundation | Sacramento | 000599
Community Development Technologies Center | Los Angeles | 000647
Contra Costa County Board of Supervisors | Concord | 000219
CSPP Research and Service Foundation | San Diego | 000260
Desert Sands Unified School District | La Quinta | 000216
East Bay Community Foundation | Oakland | 000486
Foundation for Advancements in Science and Education | Los Angeles | 000286
Foundation for Understanding and Enhancement | Walnut Creek | 000106
Greenlining Institute | San Francisco | 000598
Grossman Union High School District | El Cajon | 000334
Ink People, Inc | Eureka | 000392
Japanese American Cultural & Community Center | Los Angeles | 000407
Kingdom Harvest Ministries | Los Angeles | 000585
KQED, Inc | San Francisco | 000551
Landon Pediatric Foundation | Ventura | 000278
Latino Issues Forum | San Francisco | 000447
Legal Aid Society of Orange County | Santa Ana | 000284
Lemon Grove School District | Lemon Grove | 000153
Los Angeles County Museum of Natural History Foundation | Los Angeles | 000437
Los Angeles Theatre Alliance | Los Angeles | 000089
Mission City Community Network, Inc | North Hills | 000552
Nonprofit Tech Association | San Francisco | 000421
NORCAL Center on Deafness, Inc | Sacramento | 000378
Orange County | Santa Ana | 000052
Orange County Sheriff | Santa Ana | 000369
Palm Springs Public Library | Palm Springs | 000152
Pangea Foundation | San Diego | 000403
People Oriented Systems Institute (POSI) | Hayward | 000033
Pesticide Action Network North America Regional Center | San Francisco | 000509
Rancho Santiago Community College District | Santa Ana | 000354
Rolling Readers USA, Inc | San Diego | 000587
Round Valley Indian Health Center | Covelo | 000340
San Diego County | San Diego | 000289
San Diego State University Foundation | San Diego | 000262
San Diego State University Foundation | San Diego | 000477
San Jose State University Foundation | San Jose | 000011
San Jose State University Foundation | San Jose | 000345
SLONET Regional Information Access | San Luis Obispo | 000511
Social and Public Art Resource Center | Venice | 000522
Southern California Association of Governments | Los Angeles | 000207
Special Services for Groups | Los Angeles | 000193
Tri-City Mental Health Center | Pomona | 000484
University of California | Santa Barbara | 000467
University of California | Davis | 000602
Western Identification Network, Inc | Sacramento | 000436
Western University of Health Sciences | Pomona | 000311
Westside Center for Independent Living, Inc | Los Angeles | 000388
Youth Policy Institute | Manhattan Beach | 000632
Colorado:
Board of Weld County Commissioners | Greeley | 000096
CESR-RockThePlanet.org | Boulder | 000430
City of Wheat Ridge | Wheat Ridge | 000470
Community Health System | Colorado Springs | 000670
County Sheriffs of Colorado | Longmont | 000373
Denver Juvenile Court | Denver | 000448
Family Learning Center | Boulder | 000526
Five Points Media Center Corporation | Denver | 000450
Garfield County Emergency Communications Authority | Garfield | 000090
Poudre Fire Authority | Fort Collins | 000056
Poudre Health Services District | Fort Collins | 000258
Rocky Mountain Mutual Housing Association | Denver | 000294
Technology Transfer Solutions | Greenwood Village | 000397
United States Space Foundation | Colorado Springs | 000142
University of Colorado at Denver | Denver | 000135
Connecticut:
Bloomfield Board of Education | Bloomfield | 000205
Connecticut Association for United Spanish Action, Inc | Meriden | 000327
Groton Public Schools | Groton | 000434
Hall Neighborhood House, Inc | Bridgeport | 000563
Leadership, Education and Athletics in Partnership, Inc | New Haven | 000577
Northwestern Connecticut Community College | Litchfield | 000003
Saint Francis Hospital and Medical Center | Hartford | 000112
State of Connecticut | Wethwesfield | 000433
Towards Education for All with Multimedia, Ltd. | West Hartford | 000313
Town of Bloomfield | Bloomfield | 000094
Town of Darien | Darien | 000032
Town of Manchester | Manchester | 000386
Town of Vernon | Vernon | 000131
Wilton Police Department | Wilton | 000215
WorkPlace, Inc | Bridgeport | 000256
District of Columbia:
American Institute for Social Justice | Washington | 000341
American Public Health Association | Washington | 000545
Byte Back, Inc | Washington | 000588
Children's National Medical Center | Washington | 000546
Church Association for Community Services | Washington | 000562
DC Children and Youth Investment Trust Corporation | Washington | 000547
Fund for the Future of Our Children | Washington | 000558
Joint Center for Political and Economic Studies | Washington | 000523
Joint Educational Facilities | Washington | 000550
Lutheran Social Services of the National Capital Area | Washington | 000677
Metropolitan Police Department | Washington | 000603
National Council of La Raza, Inc | Washington | 000457
National Organization for Children | Washington | 000596
Peoples Involvement Corporation | Washington | 000655
See Forever Foundation | Washington | 000555
Startup Anywhere | Washington | 000590
The Congress of National Black Churches | Washington | 000538
University of the District of Columbia | Washington | 000574
Florida:
Broward County | Ft. Lauderdale | 000366
Christian Shopping Network, Inc | Orlando | 000513
City of Homestead | Homestead | 000593
City of Lauderhill | Lauderhill | 000100
Department of Health | Tallahassee | 000406
Everglades Wildlife Sanctuary, Inc | LaBelle | 000027
Fairchild Tropical Garden | Miami | 000145
Florida Community College at Jacksonville | Jacksonville | 000298
Florida Gulf Coast University | Fort Myers | 000451
Indian River Community College | Fort Pierce | 000495
Miami-Dade Community College | Miami | 000458
Miami-Dade Weed & Seed, Inc | Miami | 000414
Miccosukee Tribe of Indians of Florida | Miami | 000489
Mote Marine Laboratory | Sarasota | 000188
Pinellas County | Clearwater | 000390
Pinellas County Cooperative Extension Service | Largo | 000409
RLJ Business Development, Inc | North Miami Beach | 000357
Sarasota County Board of County Commissioners | Sarasota | 000488
School Board of Miami-Dade County | Miami | 000305
School Board of Miami-Dade County | Miami | 000368
South Florida Regional Planning Council | Hollywood | 000117
Techworld PCS | Miami | 000610
Town of Indialantic | Indialantic | 000065
University of Central Florida | Orlando | 000162
Georgia:
City of Atlanta | Atlanta | 000537
Clayton County Government | Jonesboro | 000662
Coastal Plain Regional Library | Tifton | 000068
Dublin Laurens Commission of Children Youth and Family | Dublin | 000267
Georgia Bureau of Investigation | Decatur | 000044
Georgia Department of Human Resources | Atlanta | 000083
Georgia Tech Research Corporation | Atlanta | 000204
South Georgia Business and Development Authority | Camilla | 000480
St. Joseph's/Candler Health System | Savannah | 000424
West Georgia Telecommunications Alliance, Inc | Carrollton | 000275
Hawaii:
Bishop Museum | Honolulu | 000399
Child and Family Service | Ewa Beach | 000141
Hawaii Health Systems Foundation | Honolulu | 000009
National Tropical Botanical Garden | Kalaheo | 000494
St. Francis Healthcare System | Honolulu | 000198
Idaho:
Blaine County | Hailey | 000014
Capital City Development Corporation | Boise | 000041
Saint Alphonsus Regional Medical Center, Inc | Boise | 000661
Illinois:
Carole Robertson Center for Learning | Chicago | 000114
Center for Neighborhood Technology | Chicago | 000435
Charles A. Hayes Family Investment Center | Chicago | 000514
Chicago State University | Chicago | 000170
Chicago State University | Chicago | 000627
City of Rockford | Rockford | 000393
Eastern Will County Dispatch Center | Crete | 000241
Educational Assistance Ltd | Wheaton | 000187
Illinois Community Action Association | Springfield | 000569
Illinois Department of Corrections | Springfield | 000247
Jobs for Youth/Chicago, Inc | Chicago | 000218
Kane County | Geneva | 000080
LPE Foundation | Schaumburg | 000251
McHenry County | Woodstock | 000086
Metro McLean County Centralized Communications Center | Bloomington | 000077
Mexican Fine Arts Center Museum | Chicago | 000583
Network Exchange Collaborative | Chicago | 000246
Performance Community | Chicago | 000116
Signal Community Institute | Chicago | 000271
Southern Illinois University at Edwardsville | Edwardsville | 000004
Touchette Regional Hospital | Centreville | 000349
Trailsways Girl Scout Council, Inc | Joliet | 000460
University of Illinois | Champaign | 000163
Village of North Aurora | North Aurora | 000095
Winnebago County | Rockford | 000352
Woman Made | Chicago | 000659
Indiana:
City of Noblesville | Noblesville | 000022
Four County Comprehensive Mental Health | Logansport | 000045
Hamilton Center, Inc | Terre Haute | 000600
Housing Authority of the City of Evansville | Evansville | 000481
Indiana State Council of Opportunities Industrialization Center, Inc | Indianapolis | 000280
Indiana Youth Services Association, Inc | Indianapolis | 000007
Integrated Public Safety Commission | Indianapolis | 000365
Purdue University | West Lafayette | 000288
Stone Belt Arc, Inc | Bloomington | 000581
Kansas:
Chanute Public Schools | Chanute | 000226
Colby Public Schools | Colby | 000618
Emporia State University | Emporia | 000175
Inter-Faith Ministries | Wichita | 000184
Learning for Life Institute | Lenexa | 000636
United Way of the Plains | Wichita | 000240
Urban League of Wichita, Inc | Wichita | 000441
Kentucky:
Appalachian College Association | Berea | 000015
Center for Rural Development | Somerset | 000320
City of Louisville | Louisville | 000150
Commonwealth of Kentucky | Richmond | 000005
Innovative Productivity, Inc | Louisville | 000335
Lost Squadron Museum, Inc | Middlesboro | 000292
Morehead State University | Rowan | 000042
Pulaski County Extension Service | Somerset | 000525
University of Kentucky Research Foundation | Lexington | 000272
University of Louisville Research Foundation, Inc | Louisville | 000132
Louisiana:
City of Shreveport | Shreveport | 000177
Dillard University | New Orleans | 000609
Grambling State University | Grambling | 000306
Housing Authority of East Baton Rouge Parish | Baton Rouge | 000214
Jefferson Parish Sheriff's Office | Thibodaux | 000362
Military Education and Training Enhancement Fund, Incorporated | New Orleans | 000046
Parish of Lafourche | Thibodaux | 000328
Redemption Christian Center Church | Hammond | 000564
Shreveport Community Renewal | Shreveport | 000374
Southern University at Baton Rouge | Baton Rouge | 000024
St. Bernard Sheriffs Department | Chalmette | 000666
St. Martin Parish | St. Martinsville | 000401
Technology Institute of New Orleans | New Orleans | 000371
Maine:
Blue Hill Memorial Hospital | Blue Hill | 000013
Cary Medical Center | Caribou | 000293
Coastal Enterprises, Inc | Wiscasset | 000185
CyberSeniors.org | Portland | 000530
Eastern Maine Development Corporation | Bangor | 000415
Pine Tree Legal Assistance, Inc | Portland | 000319
South Portland Police Department | South Portland | 000034
Western Maine Community Action | East Wilton | 000091
Maryland:
Baltimore City Health Department | Baltimore | 000322
Coppin State College | Baltimore | 000510
Development Training Institute | Baltimore | 000539
Hagerstown Telework Center | Hagerstown | 000505
Maryland Department of Aging | Baltimore | 000159
Maryland Department of Human Resources | Baltimore | 000270
Prince George's County Public Schools | Upper Marlboro | 000576
Tri-County Council For Southern Maryland | Charlotte Hall | 000111
Massachusetts:
All Care Visiting Nurse Association | Lynn | 000638
Boston Photo Collaborative | Jamaica Plain | 000524
Business Inclusion Council, Inc | Worchester | 000281
Digital Bridge Foundation | Roxbury | 000295
Education Development Center, Inc | Newton | 000191
Friends of the Soldiers' Home in Holyoke, Inc | Holyoke | 000104
Greater Boston Police Council, Inc | Waltham | 000029
Hebrew Rehabilitation Center for Aged | Boston | 000194
Legal Assistance Corporation for Central Massachusetts | Worcester | 000062
Massachusetts Executive Office of Health and Human Services | Boston | 000606
Museum of Science | Boston | 000465
Northeastern University | Boston | 000672
Quincy-Geneva Housing Corporation | Dorchester | 000630
Salem State College | Salem | 000268
Spaulding Rehabilitation Hospital | Boston | 000108
Springfield Technical Community College | Sprinfield | 000224
Timothy Smith Trust for “Old Roxbury” | Boston | 000221
United Way of Massachusetts Bay, Inc | Boston | 000614
USS Constitution Museum Foundation | Boston | 000309
VSA Arts of Massachusetts | Boston | 000394
Wilbraham Public Access | Wilbraham | 000148
Woburn Housing Authority | Woburn | 000103
Michigan:
Academy of Westland | Westland | 000074
Albion College | Albion | 000367
Black Child and Family Institute | Lansing | 000291
City of Detroit Employment and Training Department | Detroit | 000222
City of Fraser | Fraser | 000442
Deckerville Community Hospital | Deckerville | 000591
Genesee County Community Action Agency | Flint | 000498
Grand Rapids Legal Assistance | Grand Rapids | 000476
Grand Traverse Band of Ottawa and Chippewa Indians | Suttons Bay | 000503
Great Lakes Community Broadcasting, Inc | Mount Pleasant | 000491
Keweenaw Bay Ojibwa Community College | Baraga | 000379
Lapeer County | Lapeer | 000314
Lenawee County Sheriff | Adrian | 000227
Livingston County | Howell | 000384
Macomb Intermediate School District | Clinton | 000617
Madonna University | Livonia | 000264
Michigan Humanities Council | Lansing | 000353
Michigan State University | East Lansing | 000285
Michigan State University | East Lansing | 000507
Mott Community College | Flint | 000561
Muskegon Community Health Project | Muskegon | 000250
Northpointe Behavioral Healthcare Systems | Kingsford | 000485
Operation ABLE of Michigan | Southfield | 000266
School District of the City of Detroit | Detroit | 000018
University of Michigan | Ann Arbor | 000471
Valley Area Agency on Aging | Flint | 000228
Wayne County | Detroit | 000261
Webworks Alliance | Jackson | 000234
Minnesota:
Anoka County | Anoka | 000167
Arts Midwest | Minneapolis | 000440
Asian Media Access, Inc | Minneapolis | 000200
Children's Health Care, Inc | Minneapolis | 000529
City of Mankato | Mankato | 000350
City of Minneapolis | Minneapolis | 000059
City of Minneapolis | Minneapolis | 000376
Community Health Information Collaborative | Duluth | 000143
Hennepin County | Minneapolis | 000283
Hennepin County | Minneapolis | 000296
MIGIZI Communications, Inc | Minneapolis | 000506
Minnesota American Indian Chamber of Commerce | Minneapolis | 000567
Northwest Technical College | Bemidji | 000064
Ordway Center for the Performing Arts | St. Paul | 000239
Pine Technical College | Pine City | 000329
Saint Paul Public Schools ISD 625 | St. Paul | 000438
Saint Paul Urban League | Saint Paul | 000344
South Central Service Cooperative | North Mankato | 000355
Mississippi:
Central Mississippi Planning and Development District | Jackson | 000439
City of Olive Branch | Olive Branch | 000342
Mississippi Action for Community Education | Greenville | 000356
Missouri:
Barnes-Jewish Hospital | St. Louis | 000363
Boys and Girls Club of Greater Kansas City | Kansas City | 000646
City of Ballwin | Ballwin | 000040
City of St. Louis | St. Louis | 000299
Learning Exchange | Kansas City | 000468
Missouri State Highway Patrol | Jefferson City | 000432
National Association of Black Telecommunications Professionals, Inc | St. Louis | 000279
Neighborhood Alliance Resource Center | Kansas City | 000154
REJSIS Commission | St. Louis | 000315
St. Louis 2004 Corporation | St. Louis | 000445
St. Louis County Government Department of Human Services | Clayton | 000348
St. Louis Zoo | St. Louis | 000479
Trinity Full Gospel Ministries | St. Louis | 000575
University of Missouri at Missouri-St.Louis | St. Louis | 000520
Montana:
Eureka Public School | Eureka | 000359
Fort Peck Health Coalition | Wolf Point | 000039
Loud Thunder International, Inc | Great Falls | 000592
Montana Department of Labor and Industry | Helena | 000190
Montana District Export Council | Silver Bow | 000651
Montana State University at Billings | Billings | 000277
Montana Supreme Court | Helena | 000128
Montana Tech of the University of Montana | Butte | 000105
University of Montana | Dillon | 000010
University of Montana | Missoula | 000463
West Mont Home Management Services | Helena | 000076
Nebraska:
City of Crete | Crete | 000058
City of South Sioux City | South Sioux City | 000047
Educational Service Unit #7 | Columbus | 000422
Lincoln Action Program, Inc | Lincoln | 000019
Lincoln Arts Council | Lincoln | 000568
North Platte Nebraska Hospital Corporation | North Platte | 000426
Omaha Tribe of Nebraska | Macy | 000102
Rural Health Partners, Inc, d.b.a Heartland Health Alliance | Lexington | 000428
West Community Schools | Omaha | 000273
Winnebago Housing & Development Commission | Winnebago | 000620
Nevada:
Community Services Agency | Reno | 000197
Nevada Association of Latin Americans | Las Vegas | 000640
Supreme Court of Nevada | Carson | 000123
United Way of Northern Nevada & the Sierra | Reno | 000418
New Hampshire:
Concord Hospital | Concord | 000099
Crotched Mountain Foundation | Greenfield | 000235
JSI Research and Training | Concord | 000528
Manchester Neighborhood Housing Services, Inc | Manchester | 000084
New Jersey:
Atlantic County | Northfield | 000493
Bergen County Workforce Investment Board | Hackensack | 000061
Borough of North Plainfield | North Plainfield | 000597
Burlington County Institute of Technology Foundation | Mount Holly | 000081
City of Camden | Camden | 000490
City of Camden | Camden | 000594
City of Newark | Newark | 000595
County of Essex | Newark | 000223
First Baptist Community Development Corporation | Somerset | 000559
Kennedy Dancers, Inc | Jersey City | 000408
Legal Services of New Jersey | Edison | 000395
Puerto Rican Action Board, Incorporated | New Brunswick | 000134
Salem County Inter-Agency Council of Human Services | Salem | 000063
State of New Jersey | Trenton | 000501
Township of Irvington | Irvington | 000055
Township of Upper | Tuckahoe | 000417
University of New Jersey | Piscataway | 000107
New Mexico:
Branigan Cultural Center Foundation | Las Cruces | 000263
Crownpoint Institute of Technology | Crownpoint | 000474
Cuba Independent Schools, #62 | Cuba | 000548
Gallup-McKinley County Schools | Gallup | 000411
Helping Hands, Inc | Mora | 000140
Pueblo of Acoma | Acoma Pueblo | 000318
Pueblo of Santa Ana | Bernalillo | 000323
Rio Arriba Family Care Network, Inc | Espanola | 000192
University of New Mexico | Albuquerque | 000478
Youth Development, Inc | Albuquerque | 000455
New York:
Asian American Business Development Center | New York | 000075
Associated Blind, Inc | New York | 000462
Beacon of Hope House, Inc | New York | 000244
Black Rock Forest Consortium | Cornwall | 000236
Black United Fund of New York, Inc | New York | 000584
Buffalo Independent Secondary Schools Network | Buffalo | 000303
Camp Friendship Youth Program | Brooklyn | 000616
Community Access, Inc | New York | 000391
Community School District 13 | Brooklyn | 000211
Community Technology Resource Center, Inc | Buffalo | 000656
Dominican Sisters Family Health Service, Inc | Ossining | 000206
Downtown Arts Projects | New York | 000604
East Side House Settlement | Bronx | 000412
EDAD, Inc | New York | 000582
Exit Art/The First World | New York | 000642
Family Services, Inc | Poughkeepsie | 000499
Federation Employment and Guidance Service, Inc | New York | 000157
Home Aide Service of Eastern, NY, Inc | Troy | 000173
Homeless & Travelers Aid Society | Albany | 000605
Hudson Planning Group, Inc | New York | 000109
Hudson River HealthCare | Peekskill | 000372
Incorporated Village of Freeport | Freeport | 000444
Latimer-Woods Economic Development Association | Brooklyn | 000297
Lutheran Medical Center | Brooklyn | 000521
Making Opportunities for Upgrading Schools and Education | New York | 000321
Ministerial Interfaith Association/Touro College Partnership | New York | 000456
Monroe County | Rochester | 000301
Mount Sinai Hospital | New York | 000586
Nachas Healthnet, Inc | Brooklyn | 000549
New York Association for Pupil Transportation | Albany | 000387
New York College of Osteopathic, Medicine of New York Institute of Technology | Old Wheatley | 000556
New York Institute of Technology | Central Islip | 000336
New York-Presbyterian Hospital | New York | 000565
Non-Profit Assistance Corporation | New York | 000572
North General Hospital | New York | 000475
Northeast Parent & Child Society, Inc | Schenectady | 000233
Peninsula Hospital Center | Far Rockway | 000639
Project for Public Spaces, Inc | New York | 000410
Putnam County Bureau of Emergency Services | Carmel | 000125
Research Foundation of SUNY | Utica | 000423
Research Foundation of SUNY | Albany | 000534
Rome City School District | Rome | 000274
St. Joseph's Hospital Health Center | Syracuse | 000082
St. Nicholas Neighborhood and Housing Rehabilitation Corporation | Brooklyn | 000326
State University of New York at Binghamton | Binghamton | 000079
United Way of Greater Utica, Inc | Utica | 000146
University of Rochester | Rochester | 000160
Westchester Education Coalition, Inc | Elmsford | 000324
North Carolina:
City of Laurinburg | Laurinburg | 000343
City of Mount Airy | Mount Airy | 000069
Durham County Literacy Council | Durham | 000180
ExplorNet | Raleigh | 000201
Faith Empowerment Community Consortium | Charlotte | 000650
Southeastern Community College | Whiteville | 000238
Southside High School | Chocowinity | 000351
Southwestern Community College | Sylva | 000671
North Dakota:
McKenzie County Job Development Authority | Watford City | 000053
North Dakota Association of Tribal Colleges | Bismarck | 000535
North Dakota State University | Fargo | 000230
United Tribes Technical College | Bismarck | 000166
Ohio:
Association for Children for Enforcement of Support, Inc | Toledo | 000243
Bowling Green State University | Bowling Green | 000282
Children's Hospital | Columbus | 000202
Children's Hospital Medical Center | Cincinnati | 000120
City of Barberton | Barberton | 000413
City of Huber Heights | Huber Heights | 000097
City of Marietta | Marietta | 000316
Cleveland Museum of Art | Cleveland | 000212
Cleveland Treatment Center | Cleveland | 000607
Daybreak, Inc | Dayton | 000287
Deaconess Foundation | Cincinnati | 000118
International Association of Directors of Law Enforcement Officer and Standards | Hillard | 000579
Northern Buckeye Education Council | Archbold | 000404
Ohio Department of Natural Resources | Columbus | 000504
Ohio State University Research Foundation | Columbus | 000259
Richland County | Mansfield | 000231
Trumbull County | Warren | 000332
Village of Crooksville | Crooksville | 000127
Youngstown State University | Youngstown | 000210
Oklahoma:
Cameron University | Lawton | 000085
Cherokee Nation | Tahlequah | 000178
Hillcrest Riverside Inc | Tulsa | 000073
INTEGRIS South Oklahoma City Hospital Corporation | Oklahoma City | 000658
Lawton Outreach Center, Inc | Lawton | 000543
Oklahoma Department of Wildlife Conservation | Oklahoma City | 000133
South Western Oklahoma Development Authority | Burns Flat | 000176
Tulsa City-County Health Department | Tulsa | 000667
Urban League of Greater Oklahoma City, Inc | Oklahoma City | 000508
Wildewood Christian Church | Oklahoma City | 000518
Oregon:
Blue Mountain Community College | Pendleton | 000619
City of Portland | Portland | 000092
City of Portland | Portland | 000248
Eastern Oregon Collaborative Colleges Center | La Grande | 000156
Intertribal GIS Council | Pendleton | 000030
Lane Council of Governments | Eugene | 000237
Lane Council of Governments | Eugene | 000290
Mount Hood Community College | Gresham | 000337
Multnomah County Citizen Involvement Committee | Portland | 000121
Northwest Portland Area Indian Health Board | Portland | 000346
Oregon Rehabilitation Association | Salem | 000169
Portland State University | Portland | 000057
Rogue Valley Medical Center Foundation | Medford | 000381
School District No. 1 | Portland | 000487
United Way of the Columbia-Willamette | Portland | 000454
Pennsylvania:
Association of Radio Reading Services | Pittsburgh | 000531
Columbia Montour Area Agency on Aging | Bloomsburg | 000257
Community Action Association of Pennsylvania | Harrisburg | 000573
Crawford County Regional Alliance | Meadville | 000006
Emergency Medical Service Institute | Pennsylvania | 000560
Fayette County Community Action Agency, Inc | Uniontown | 000113
Information Renaissance | Pittsburgh | 000557
Keystone Economic Development Corporation | Johnstown | 000183
Luzerne County Community College | Nanticoke | 000512
Mental Health Association of Southeastern Pennsylvania | Philadelphia | 000220
North Central Industrial Technical Education Center School | Ridgeway | 000402
Northampton Community College | Bethlehem | 000001
Northern Tier Industry and Education Consortium | Dimock | 000016
Opportunities Industrialization Centers | Philadelphia | 000578
Pennsylvania Resources Council | Pittsburgh | 000613
Regional Nursing Centers Consortium/Resources for Human Development, Inc | Philadelphia | 000375
Saint Maria Goretti High School | Philadelphia | 000553
South of South Neighborhood Association, Inc | Philadelphia | 000452
SUN Home Health Services, Inc | Northumberland | 000589
Technical Assistants | Philadelphia | 000017
Tredyffrin TWP | Berwyn | 000383
Washington County | Washington | 000067
Women's Opportunities Resource Center | Philadelphia | 000119
Puerto Rico:
Inter American University of Puerto Rico | San Juan | 000302
Municipality of Anasco | Anasco | 000637
Municipality of San Juan | San Juan | 000245
University of Puerto Rico | Mayaguez | 000571
Rhode Island:
Ocean State Association of Residential Resources | North Kingstown | 000186
Ocean State Higher Education | Narragansett | 000137
Rhode Island Development Corporation | Providence | 000002
University of Rhode Island | Kingston | 000396
South Carolina:
Aiken County | Aiken | 000115
Chester County | Chester | 000093
Kershaw County School District | Camden | 000229
South Carolina Department of Education | Columbia | 000307
South Carolina Educational Television | Columbia | 000515
South Dakota:
Lakota Resource Institute, Inc | Rapid City | 000469
Porcupine Contract School | Porcupine | 000171
Rosebud Sioux Tribe | Rosebud | 000612
Rural Alliance, Inc | Rapid City | 000631
Southeast Technical Institute | Sioux Falls | 000070
Tennessee:
City of Oak Ridge | Oak Ridge | 000174
Cleveland Bradley Communications Center | Cleveland | 000025
CyberTech Community Learning Center, Inc | Memphis | 000459
East Tennessee Community Design Center, Inc | Knoxville | 000339
Kingsport Tomorrow, Inc | Kingsport | 000654
Metro Nashville-Davidson County Planning Department | Nashville | 000425
Rural Health Services Consortium, Inc | Rogersville | 000629
Tennessee Department of Safety | Nashville | 000196
University of Tennessee at Martin | Martin | 000043
Texas:
Association for the Advancement of Mexican Americans, Inc (AAMA) | Houston | 000443
Carrollton-Farmers Branch | Farmers Branch | 000060
Center for Economic Opportunities | San Juan | 000138
CEP.COM | El Paso | 000420
City of Dallas | Dallas | 000364
City of Fort Worth | Fort Worth | 000398
City of Houston | Houston | 000308
City of San Antonio | San Antonio | 000473
Dallas County | Dallas | 000482
Dallas Independent School District | Dallas | 000008
Hood County Hospital District | Granbury | 000360
Huston-Tillotson College | Austin | 000517
Knowbility, Inc | Austin | 000635
Kountz Independence School District | Kountze | 000254
Latino Education Project | Corpus Christi | 000653
Lee College | Baytown | 000036
Legal Services of North Texas, Inc | Dallas | 000161
Pharr Police Department | Pharr | 000472
Tarrant County ACCESS for the Homeless | Fort Worth | 000533
Texas A&M Research Foundation | College Station | 000300
Texas Association of Minority Business Enterprises | Austin | 000633
Texas Mental Health Consumers | Austin | 000255
Texas Southern University | Houston | 000532
Texas Workforce Commission | Austin | 000217
TIRR Rehabilitation Centers | Houston | 000544
University of North Texas | Denton | 000038
University of Texas at El Paso | El Paso | 000195
University of Texas Medical Branch | Galveston | 000429
Upper Rio Grande Workforce Development Board, Inc | El Paso | 000189
Webdone.org | Houston | 000674
Utah:
Confedered Tribes of the Goshute Indians | Ibapah | 000519
Springville City Corporation | Springville | 000182
State of Utah | Salt Lake City | 000144
Utah State University | Logan | 000172
Utah Valley State College | Orem | 000179
Wasatch County | Heber City | 000023
Virgin Islands:
St. Croix Foundation for Community Development | Christiansted | 000660
Virginia:
Chesterfield County | Chesterfield | 000483
Chesterfield County | Chesterfield | 000497
City of Staunton | Staunton | 000066
Colonial Williamsburg Foundation | Williamsburg | 000149
Community Associations Institute Research Foundation | Alexandria | 000665
Computer Redistribution Team (CRT), Inc | Waynesboro | 000124
Fairfax County Public Library Foundation | Fairfax | 000516
Fairfax County Public Library Foundation, Inc | Fairfax | 000500
Fairfax County Public Schools | Fairfax | 000580
Garfield F. Childs Memorial Fund, Inc | Richmond | 000652
Green Thumb, Inc | Arlington | 000541
New River Valley Planning District Commission | Radford | 000158
Norfolk State University | Norfolk | 000621
Project WORD, Inc | Arlington | 000566
RemeCare, Inc | Charlottesville | 000624
Self Reliance Foundation | Arlington | 000542
Virginia Mennonite Retirement Community | Harrisonburg | 000088
Virginia Union University | Richmond | 000453
Vermont:
State of Vermont | Waterbury | 000361
United Way of Chittenden County | Burlington | 000370
University of Vermont and State Agricultural College | Burlington | 000012
Vermont Symphony Orchestra, Inc | Burlington | 000331
Washington:
Benton County | Richland | 000110
Benton Fire District #1 | Kennewick | 000087
Community Centers Development Council | Spokane | 000400
Eastern Washington State Historical Society | Spokane | 000139
Kitsap County Central Communications | Bremerton | 000209
Lower Columbia College | Longview | 000269
Northwest Indian Fisheries Commission | Olympia | 000101
Pierce County | Tacoma | 000502
Seattle Central Community College | Seattle | 000347
Seattle Public Schools | Seattle | 000389
Service Corporation of Retired Executives | Seattle | 000071
Suquamish Indian Tribe | Suquamish | 000554
Washington State Patrol | Olympia | 000338
Washington State University | Pullman | 000050
Whatcom-State County | Bellingham | 000377
West Virginia:
AEL, Inc | Charleston | 000181
Camcare Health Education and Research Institute, Inc | Charleston | 000648
Marshall University Research Corporation | Huntington | 000151
Mineral Alternative School County | Keyser | 000028
Monongalia County Board of Education | Morgantown | 000333
Wisconsin:
City of West Bend | West Bend | 000253
Housing Authority of the City of Milwaukee | Milwaukee | 000225
Northwest Side Community Development Corporation | Milwaukee | 000317
School District of Phelps | Phelps | 000037
Wyoming:
Big Horn County Counseling | Basin | 000249
City of Rock Springs | Rock Springs | 000385

Bernadette McGuire-Rivera,
Associate Administrator, Office of Telecommunications and Information Applications.

[FR Doc. 00-12435 Filed 5-16-00; 8:45 am]

BILLING CODE 3510-60-P